FEDERAL LABOR RELATIONS AUTHORITY

5 CFR Chapter XIV

New Addresses

AGENCY: Federal Labor Relations Authority.

ACTION: Final rule.

SUMMARY: The Washington and Boston Regional Offices of the Federal Labor Relations Authority are relocating. Accordingly, it is necessary to amend 5 CFR chapter XIV to reflect the changes in the addresses for these offices.

DATES: Effective Date: This rule is effective March 9, 2005.

FOR FURTHER INFORMATION CONTACT: Yvonne Thomas, Director, Administrative Services Division; Federal Labor Relations Authority; 1400 K Street, NW.; Washington, DC 20424-0001; (202) 218-7750.

SUPPLEMENTARY INFORMATION: Paragraph (d) of Appendix A to 5 CFR chapter XIV sets forth the addresses, telephone numbers, and fax numbers of the Regional Offices of the Federal Labor Relations Authority. Because of the relocation of two of these offices, it is necessary to revise these provisions of the agency's regulations. The Washington Regional Office will relocate effective March 14, 2005. The Boston Regional Office will relocate effective March 21, 2005.

Regulatory Flexibility Act Certification

Pursuant to section 605(b) of the Regulatory Flexibility Act, 5 U.S.C. 605(b), the Federal Labor Relations Authority has determined that these regulations, as amended, will not have a significant economic impact on a substantial number of small entities, because they apply to Federal employees, Federal agencies, and labor organizations representing Federal employees.

Unfunded Mandates Reform Act of 1995

These regulatory changes will not result in the expenditure by state, local, and tribal governments, in the aggregate, or by the private sector, of $100,000,000 or more in any one year, and it will not significantly or uniquely affect small governments. Therefore, no actions were deemed necessary under the provisions of the Unfunded Mandates Reform Act of 1995.

Small Business Regulatory Enforcement Fairness Act of 1996

These rules are not major rules as defined by section 804 of the Small Business Regulatory Enforcement Fairness Act of 1996. These rules will not result in an annual effect on the economy of $100,000,000 or more; a major increase in costs or prices; or significant adverse effects on competition, employment, investment, productivity, innovation, or on the ability of United States-based companies to compete with foreign-based companies in domestic and export markets.

Paperwork Reduction Act of 1995

These regulations contain no information collection or record keeping requirements under the Paperwork Reduction Act of 1995 (44 U.S.C. 3507 et seq.).

CHAPTER XIV—FEDERAL LABOR RELATIONS AUTHORITY

For the reasons set out in the preamble and under the authority of 5 U.S.C. 7134, Appendix A to 5 CFR Ch. XIV is amended as follows:

Appendix A to 5 CFR Ch. XIV, paragraphs (d)(1) and (d)(2), are revised to read as follows:

Appendix A to 5 CFR Ch. XIV—Current Addresses and Geographic Jurisdictions

* * * * *

(d) * * *

(1) Boston, Massachusetts Regional Office—10 Causeway Street, Suite 472, Boston, MA 02222-1043; telephone: (617) 424-5730; fax: (617) 424-5743.

(2) Washington, DC Regional Office-1400 K Street NW., Suite 200, Washington, DC 20424-0001; telephone: (202) 482-6700; fax: (202) 482-6724.

* * * * *

Dated: March 2, 2005.
Yvonne Thomas,
Director, Administrative Services Division.

[FR Doc. 05-4579 Filed 3-8-05; 8:45 am]

BILLING CODE 6727-01-P